DEPARTMENT OF THE INTERIOR

Office of Surface Mining Reclamation and Enforcement

30 CFR Part 913

[IL-102-FOR]

Illinois Regulatory Program and Illinois Abandoned Mine Land Reclamation Plan

AGENCY: Office of Surface Mining Reclamation and Enforcement, Interior.

ACTION: Final rule; technical amendment.

SUMMARY: We, the Office of Surface Mining Reclamation and Enforcement (OSM), are amending our regulations to reflect a change in the address for the Illinois Department of Natural Resources. We are also deleting information which is repetitive in nature. These actions are editorial in nature and are intended to provide accuracy to the agency's regulations.

This rule is being made effective immediately in order to provide the public with up-to-date information.

EFFECTIVE DATE: July 19, 2004.

FOR FURTHER INFORMATION CONTACT: Andrew R. Gilmore, Director, Indianapolis Field Office, Minton-Capehart Federal Building, 575 North Pennsylvania Street, Room 301, Indianapolis, Indiana 46204. Telephone: (317) 226-6700. Internet address: IFOMAIL@osmre.gov.

SUPPLEMENTARY INFORMATION: We are amending our regulations at 30 CFR part 913 to reflect a change in the address for the Illinois Department of Natural Resources, Office of Mines and Minerals' Land Reclamation Division and Abandoned Mine Lands Reclamation Division. Illinois recently moved its offices to One Natural Resources Way, Springfield, Illinois. We are updating the addresses for the location of the publicly available copies of the Illinois regulatory program (Illinois program) and the Illinois Abandoned Mine Land Reclamation (AMLR) plan. These changes will ensure awareness of the current location where the public may inspect the Illinois program and the Illinois AMLR plan.

Technical Change

In this document, we are updating 30 CFR 913.10 and 913.20 to reflect the new location where the public may inspect copies of the Illinois program and the Illinois AMLR plan. We are also revising 30 CFR 913.25 by removing information regarding addresses that is duplicative of the information in 30 CFR 913.20.

List of Subjects in 30 CFR Part 913

Intergovernmental relations, Surface mining, Underground mining.

Dated: June 2, 2004.
Charles E. Sandberg,
Regional Director, Mid-Continent Regional Coordinating Center.

For the reasons set out in the preamble, 30 CFR part 913 is amended as set forth below:

PART 913—ILLINOIS

1. The authority citation for part 913 continues to read as follows:

Authority: 30 U.S.C. 1201 et seq.

2. Section 913.10 is amended by revising paragraph (a) to read as follows:

§ 913.10 State regulatory program approval.

* * * * *

(a) Illinois Department of Natural Resources, Office of Mines and Minerals, Land Reclamation Division, One Natural Resources Way, Springfield, Illinois 62701-1787.

* * * * *

3. Section 913.20 is amended by revising paragraph (a) to read as follows:

§ 913.20 Approval of Illinois abandoned mine land reclamation plan.

* * * * *

(a) Illinois Department of Natural Resources, Office of Mines and Minerals, Abandoned Mine Land Reclamation Division, One Natural Resources Way, Springfield, Illinois 62701-1787.

* * * * *

§ 913.25 [Amended]

4. Section 913.25 is amended by removing paragraph (a) and the designation “(b)” from paragraph (b).

[FR Doc. 04-16291 Filed 7-16-04; 8:45 am]

BILLING CODE 4310-05-P